DEPARTMENT OF THE INTERIOR

National Park Service

[NPS-NERO-PAGR-12275; PPNEPAGR00, PMP00UP05.YP0000]

Meeting Notice for the Paterson Great Falls National Historical Park Advisory Commission

AGENCY: National Park Service, Interior.

ACTION: Notice of upcoming meeting.

SUMMARY: This notice announces a schedule of upcoming meetings for the Paterson Great Falls National Historical Park (NHP) Federal Advisory Commission.

DATES: The Commission meeting is scheduled for March 7, 2013.

Time: This meeting will begin at 2:00 p.m. and will end by 5:00 p.m.

Location: The meeting will be held at the Paterson Museum, 2 Market Street (intersection of Market and Spruce Streets), Paterson, NJ.

FOR FURTHER INFORMATION CONTACT: Darren Boch, Superintendent, Paterson Great Falls National Historical Park, 72 McBride Avenue, Paterson, NJ 07501, telephone (973) 523-2630.

SUPPLEMENTARY INFORMATION: Under section 10(a)(2) of the Federal Advisory Committee Act (5 U.S.C. App.), this notice announces a meeting of the Paterson Great Falls NHP Federal Advisory Commission. The Paterson Great Falls NHP Federal Advisory Commission was authorized by Congress and signed by the President on March 30, 2009, (Pub. L. 111-11, Title VII, Subtitle A, Section 7001, Subsection e) “to advise the Secretary in the development and implementation of the management plan.” Topics to be discussed include Advisory Commission comments and suggestions for draft alternatives for the Paterson Great Falls NHP General Management Plan.

The meetings will be open to the public and time will be reserved during each meeting for public comment. Oral comments will be summarized for the record. If individuals wish to have their comments recorded verbatim, they must submit them in writing. Written comments and requests for agenda items may be sent to: Federal Advisory Commission, Paterson Great Falls National Historical Park, 72 McBride Avenue, Paterson, NJ 07501.

Before including your address, telephone number, email address, or other personal identifying information in your comment, you should be aware that your entire comment—including your personal identifying information—may be made publicly available at any time. While you can ask us in your comment to withhold your personal identifying information from public review, we cannot guarantee that we will be able to do so. All comments will be made part of the public record and will be electronically distributed to all Committee members.

Dated: February 13, 2013.
Amanda Jones,
Community Planner, Park Planning and Special Studies, National Park Service, Northeast Region.

[FR Doc. 2013-03863 Filed 2-19-13; 8:45 am]

BILLING CODE 4310-WV-P